DEPARTMENT OF ENERGY

Federal Energy Regulatory Commission

[Docket No. EG01-179-000, et al.]

Lone Oak Energy Center, LLC, et al.; Electric Rate and Corporate Regulation Filings

April 6, 2001.

Take notice that the following filings have been made with the Commission:

1. Lone Oak Energy Center, LLC

[Docket No. EG01-179-000]

Take notice that on April 4, 2001, Lone Oak Energy Center, LLC (Lone Oak) filed with the Federal Energy Regulatory Commission (Commission) an application for determination of exempt wholesale generator status pursuant to part 365 of the Commission's regulations.

Lone Oak, a Delaware limited liability company, proposes to own and operate an electric generating facility and sell the output at wholesale to electric utilities, an affiliated power marketer and other purchasers. The facility is a natural gas-fired, combined cycle generating facility, which is under development in Lowndes County, Mississippi.

Comment date: April 27, 2001, in accordance with Standard Paragraph E at the end of this notice. The Commission will limit its consideration of comments to those that address the adequacy or accuracy of the application.

2. ACE Cogeneration Company, L.P.

[Docket No. EG01-180-000]

Take notice that on April 4, 2001, ACE Cogeneration Company, L.P.,10000 Stockdale Highway, Suite 100, Bakersfield, CA 93311, filed with the Federal Energy Regulatory Commission (Commission), an application for determination of exempt wholesale generator status pursuant to Part 365 of the Commission's regulations.

ACE owns and operates a nominal 96 MW, coal-fired, enhanced oil recovery cogeneration power plant that uses a circulating fluidized bed boiler (CFB) combustion system (the Facility). The Facility is located in Trona, California, northeast of Ridgecrest in the California high desert near Death Valley.

Comment date: April 27, 2001, in accordance with Standard Paragraph E at the end of this notice. The Commission will limit its consideration of comments to those that address the adequacy or accuracy of the application.

3. UtiliCorp United Inc.

[Docket No. ES01-27-000]

Take notice that on April 3, 2001, UtiliCorp United Inc. (UtiliCorp) submitted an application pursuant to section 204 of the Federal Power Act seeking authorization to issue 2 million shares of UtiliCorp common stock under the UtiliCorp United Inc. Amended and Restated 1986 Stock Incentive Plan.

UtiliCorp also requests a waiver of the Commission's competitive bidding and negotiated placement requirements at 18 CFR 34.2.

Comment date: April 27, 2001, in accordance with Standard Paragraph E at the end of this notice.

4. VIASYN, Inc.

[Docket No. ER01-1709-000]

Take notice that on April 3, 2001 VIASYN, Inc. (VIASYN) tendered for filing acceptance of VIASYN Rate Schedule FERC No. 1; the granting of certain blanket approvals, including the authority to sell electricity at market-based rates; and the waiver of certain Commission regulations.

VIASYN intends to engage in wholesale electric power and energy purchases and sales as a marketer. VIASYN is not in the business of generating or transmitting electric power.

Comment date: April 23, 2001, in accordance with Standard Paragraph E at the end of this notice.

5. Santa Rosa Energy LLC

[Docket No. ER01-1714-000]

Take notice that on April 3, 2001, Santa Rosa Energy LLC (Santa Rosa) tendered for filing an application for waivers and blanket approvals under various regulations of the Commission and for an order accepting its FERC Electric Rate Schedule No. 1. Santa Rosa proposes that its Rate Schedule No. 1 become effective upon commencement of service of its cogeneration facility at the Santa Rosa Energy Center (the Facility), a 255 MW generation project currently being developed by Santa Rosa in Pace, Florida. The Facility is expected to be commercially operable by approximately the second quarter of 2002.

Santa Rosa intends to sell energy, capacity, and certain ancillary services from the Facility in the wholesale power market at market-based rates, and on such terms and conditions to be mutually agreed to with the purchasing party.

Comment date: April 23, 2001, in accordance with Standard Paragraph E at the end of this notice.

6. Ameren Energy Marketing Company

[Docket No. ER01-1715-000]

Take notice that on April 3, 2001, Ameren Energy Marketing Company (AEM) tendered for filing informational purposes two amendments to an existing Electric Service Agreement with Soyland Power Cooperative, Inc. currently on file with the Commission.

Comment date: April 24, 2001, in accordance with Standard Paragraph E at the end of this notice.

7. PJM Interconnection, L.L.C.

[Docket No. ER01-1717-000]

Take notice that on April 3, 2001, PJM Interconnection, L.L.C. (PJM) tendered for filing changes to the PJM Open Access Transmission Tariff (PJM Tariff) and to the Amended and Restated Operating Agreement of PJM Interconnection, L.L.C. (Operating Agreement) to modify certain provisions regarding compliance with PJM's creditworthiness standards and for termination of service by PJM in the event of a default and failure to cure upon notice thereof.

PJM states that it served copies of its filing on all PJM members and on each state electric utility regulatory commission in the PJM control area.

PJM requests waiver of the Commission's regulations at 18 C.F.R. § 35.15 to permit it to make the proposed tariff changes effective on April 4, 2001.

Comment date: April 24, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-9049 Filed 4-11-01; 8:45 am]

BILLING CODE 6717-01-P